OFFICE OF PERSONNEL MANAGEMENT

Excepted Service

AGENCY: U.S. Office of Personnel Management (OPM).

ACTION: Notice.

SUMMARY: This notice identifies Schedule A, B, and C appointing authorities applicable to a single agency that were established or revoked from May 1, 2014, to May 31, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during May 2014.

Schedule B

No Schedule B authorities to report during May 2014.

Schedule C

The following Schedule C appointing authorities were approved during May 2014.

Agency name | Organization name | Position title | Authorization No. | Effective date
Department of Agriculture | Office of the Assistant Secretary for Congressional Relations | Confidential Assistant | DA140066 | 5/13/2014
| Rural Housing Service | Chief of Staff | DA140067 | 5/29/2014
|  | State Director—Wyoming | DA140075 | 5/30/2014
| Farm Service Agency | State Executive Director—Georgia | DA140069 | 5/29/2014
Department of Commerce | Office of the Assistant Secretary for Economic Development | Director, Office of Innovation and Entrepreneurship | DC140086 | 5/2/2014
| Office of White House Liaison | Special Assistant | DC140087 | 5/2/2014
Commodity Futures Trading Commission | Office of the Chairperson | Director of Legislative Affairs | CT140004 | 5/5/2014
Department of Defense | Office of Assistant Secretary of Defense (Legislative Affairs) | Special Assistant | DD140065 | 5/19/2014
| Washington Headquarters Services | Defense Fellow | DD140068 | 5/21/2014
Department of the Navy | Office of the Secretary | Senior Advisor for Energy | DN140013 | 5/5/2014
Department of Education | Office of Special Education and Rehabilitative Services | Special Assistant | DB140061 | 5/5/2014
| Office of Planning, Evaluation and Policy Development | Chief of Staff | DB140067 | 5/9/2014
| Office of Communications and Outreach | Special Assistant | DB140065 | 5/12/2014
| Office of the Under Secretary | Confidential Assistant | DB140073 | 5/22/2014
|  | Chief of Staff | DB140071 | 5/23/2014
| Office of the Secretary | Special Assistant | DB140070 | 5/19/2014
|  | Confidential Assistant | DB140072 | 5/22/2014
| Office of Legislation and Congressional Affairs | Chief of Staff | DB140074 | 5/28/2014
Department of Energy | Office of Management | Special Assistant | DE140054 | 5/12/2014
| Office of the Secretary | Deputy White House Liaison | DE140061 | 5/12/2014
| Office of Energy Policy and Systems Analysis | Advisor for Climate Change | DE140062 | 5/16/2014
Environmental Protection Agency | Office of the Associate Administrator for External Affairs and Environmental Education | Chief Speech Writer Speech Writer | EP140027 EP140031 | 5/8/2014 5/21/2014
| Office of the Administrator | White House Liaison | EP140028 | 5/21/2014
Export-Import Bank | Office of Communications | Senior Vice President for Communications | EB140007 | 5/12/2014
General Services Administration | Office of the Administrator | Senior Advisor | GS140020 | 5/5/2014
| Office of Communications and Marketing | Press Secretary | GS140023 | 5/16/2014
Department of Health and Human Services | Office of the Assistant Secretary for Public Affairs | Digital Communications Coordinator | DH140058 | 5/1/2014
|  | Special Assistant for Specialty Media | DH140060 | 5/2/2014
| Office of Health Reform | Senior Policy Analyst | DH140065 | 5/16/2014
Department of Homeland Security | Office of the Executive Secretariat | Secretary Briefing Book Coordinator | DM140133 | 5/7/2014
|  | Special Assistant | DM140140 | 5/21/2014
| Office of the Chief of Staff | Confidential Assistant | DM140129 | 5/12/2014
| Office of the Assistant Secretary for Public Affairs | Press Assistant Director of Speechwriting | DM140137 DM140139 | 5/19/2014 5/21/2014
|  | Deputy Director of Speechwriting | DM140142 | 5/21/2014
| Federal Emergency Management Agency | Director of Intergovernmental Affairs | DM140132 | 5/20/2014
|  | Counselor | DM140147 | 5/28/2014
| U.S. Citizenship and Immigration Services | Special Assistant | DM140148 | 5/28/2014
Department of Housing and Urban Development | Office of the Administration | Scheduling Assistant | DU140026 | 5/22/2014
| Office of Policy Development and Research | Deputy Assistant Secretary for International and Philanthropic Innovation | DU140023 | 5/22/2014
Department of the Interior | Assistant Secretary—Land and Minerals Management | Advisor | DI140034 | 5/12/2014
Department of Justice | Office of the Associate Attorney General | Counsel and Deputy Chief of Staff | DJ140046 | 5/7/2014
Department of Labor | Office of Congressional and Intergovernmental Affairs | Regional Representative Senior Legislative Assistant | DL140043 DL140049 | 5/5/2014 5/13/2014
| Office of the Secretary | Senior Advisor | DL140044 | 5/8/2014
|  | Special Assistant | DL140048 | 5/13/2014
| Office of the Deputy Secretary | Counselor | DL140052 | 5/29/2014
National Aeronautics and Space Administration | Office of Communications | Public Affairs Specialist | NN140019 | 5/12/2014
Office of Management and Budget | Office of the Director | Confidential Assistant | BO140016 | 5/28/2014
Office of the United States Trade Representative | Intergovernmental Affairs and Public Liaison | Director for Intergovernmental Affairs and Public Engagement | TN140003 | 5/8/2014
Small Business Administration | Office of Congressional and Legislative Affairs | Legislative Policy Advisor | SB140019 | 5/1/2014
Department of State | Office of the Under Secretary for Civilian Security, Democracy, and Human Rights | Staff Assistant | DS140083 | 5/9/2014
| Bureau of Democracy, Human Rights and Labor | Deputy Assistant Secretary | DS140082 | 5/15/2014
| Office of the Under Secretary for Public Diplomacy and Public Affairs | Staff Assistant | DS140085 | 5/15/2014
Department of the Treasury | Under Secretary for International Affairs | Senior Advisor | DY140072 | 5/6/2014
| Assistant Secretary (Public Affairs) | Media Affairs Specialist/Spokesperson | DY140076 | 5/9/2014
|  | Special Assistant | DY140077 | 5/14/2014
|  | Confidential Assistant | DY140081 | 5/29/2014
| Assistant Secretary for International Finance | Assistant for International Finance | DY140078 | 5/14/2014
| Secretary of the Treasury | Special Assistant | DY140079 | 5/19/2014
United States International Trade Commission | Office of Commissioner Schmidtlein | Confidential Assistant | TC140010 | 5/8/2014
|  | Staff Assistant (Legal) (2) | TC140008 TC140009 | 5/13/2014 5/15/2014
|  | Senior Economist | TC140007 | 5/15/2014
Department of Veterans Affairs | Office of the Secretary and Deputy | Special Assistant | DV140033 | 5/2/2014

The following Schedule C appointing authorities were revoked during May 2014.

Agency | Organization | Position title | Authorization No. | Vacate date
Department of Agriculture | Office of the Secretary | Policy Assistant | DA130209 | 5/17/2014
Department Of Commerce | Office of the General Counsel | Deputy General Counsel for Strategic Initiatives | DC130001 | 5/16/2014
| Office of the Chief of Staff | Scheduling Assistant | DC130075 | 5/27/2014
| Office of White House Liaison | Special Assistant | DC120039 | 5/30/2014
|  | Deputy Director, Office of White House Liaison | DC130024 | 5/30/2014
| Office of Public Affairs | Director of Speechwriting | DC120055 | 5/30/2014
Commodity Futures Trading Commission | Office of the Chairperson | Director of Legislative Affairs | CT090005 | 5/9/2014
Council on Environmental Quality | Council on Environmental Quality | Special Assistant | EQ120001 | 5/24/2014
Department of Education | Office of the Deputy Secretary | Special Assistant | DB130024 | 5/2/2014
| Office of Special Education and Rehabilitative Services | Special Assistant | DB090076 | 5/3/2014
| Office of the Under Secretary | Confidential Assistant | DB130013 | 5/4/2014
| Office of Elementary and Secondary Education | Special Assistant | DB120093 | 5/16/2014
| Office of Elementary and Secondary Education | Confidential Assistant | DB110059 | 5/17/2014
Department of Energy | Office of the Secretary | Senior Advisor | DE130089 | 5/3/2014
| Assistant Secretary for Congressional and Intergovernmental Affairs | Intergovernmental Affairs Advisor | DE110131 | 5/24/2014
Department of Health and Human Services | Office of the Assistant Secretary for Public Affairs | Special Assistant | DH120059 | 5/3/2014
| Office of the Secretary | Confidential Assistant | DH130020 | 5/17/2014
Department of Homeland Security | Office of the Assistant Secretary for Public Affairs | Special Projects Coordinator | DM120153 | 5/2/2014
|  | Director of Speechwriting | DM090413 | 5/31/2014
| U.S. Customs and Border Protection | Assistant Commissioner for Public Affairs | DM110222 | 5/3/2014
|  | Policy Advisor | DM130080 | 5/24/2014
| Office of the Chief of Staff | Deputy Chief of Staff | DM130052 | 5/19/2014
|  | Deputy Director of Scheduling and Protocol Coordination | DM090359 | 5/30/2014
| U.S. Immigration and Customs Enforcement | Director of Communications | DM100009 | 5/31/2014
Department of Justice | Office of the Associate Attorney General | Senior Counsel | DJ100143 | 5/3/2014
| Civil Rights Division | Senior Counselor | DJ140024 | 5/3/2014
| Office of the Associate Attorney General | Attorney Advisor | DJ120075 | 5/17/2014
Department of Labor | Office of the Deputy Secretary | Policy Advisor | DL130018 | 5/17/2014
Department of State | Office of the Chief of Protocol | Protocol Assistant | DS100053 | 5/3/2014
| Office of the Under Secretary for Public Diplomacy and Public Affairs | Speechwriter Staff Assistant | DS110013 DS120090 | 5/3/2014 5/3/2014
| Bureau for Education and Cultural Affairs | Staff Assistant | DS110098 | 5/3/2014
Department of the Navy | Office Assistant Secretary of Navy (Energy, Installations and Environment) | Special Assistant | DN120018 | 5/4/2014
Department of Transportation | Assistant Secretary for Governmental Affairs | Director of Governmental Affairs | DT140012 | 5/3/2014
| Immediate Office of the Administrator | Associate Administrator for Governmental, International, and Public Affairs | DT120017 | 5/10/2014
Environmental Protection Agency | Office of the Associate Administrator for External Affairs and Environmental Education | Speech Writer | EP130039 | 5/10/2014
General Services Administration | Office of Communications and Marketing | Press Secretary Deputy Press Secretary | GS130008 GS120026 | 5/10/2014 5/17/2014
Office of the Secretary of Defense | Washington Headquarters Services | Defense Fellow | DD120094 | 5/3/2014

Authority: 5 U.S.C. 3301 and 3302; E.O. 10577, 3 CFR, 1954-1958 Comp., p. 218.

U.S. Office of Personnel Management.
Katherine Archuleta,
Director.

[FR Doc. 2014-16968 Filed 7-17-14; 8:45 am]

BILLING CODE 6325-39-P